SMALL BUSINESS ADMINISTRATION

[Disaster Declaration #17383 and #17384; WASHINGTON Disaster Number WA-00104]

Presidential Declaration Amendment of a Major Disaster for Public Assistance Only for the State of Washington

AGENCY: U.S. Small Business Administration.

ACTION: Amendment 3.

SUMMARY: This is an amendment of the Presidential declaration of a major disaster for Public Assistance Only for the State of Washington (FEMA-4650-DR), dated 03/29/2022.

Incident: Severe Winter Storms, Snowstorms, Straight-line Winds, Flooding, Landslides, and Mudslides.

Incident Period: 12/26/2021 through 01/15/2022.

DATES: Issued on 05/17/2022.

Physical Loan Application Deadline Date: 05/30/2022.

Economic Injury (EIDL) Loan Application Deadline Date: 12/29/2022.

ADDRESSES: Submit completed loan applications to: U.S. Small Business Administration, Processing and Disbursement Center, 14925 Kingsport Road, Fort Worth, TX 76155.

FOR FURTHER INFORMATION CONTACT: A. Escobar, Office of Disaster Assistance, U.S. Small Business Administration, 409 3rd Street SW, Suite 6050, Washington, DC 20416, (202) 205-6734.

SUPPLEMENTARY INFORMATION: The notice of the President's major disaster declaration for Private Non-Profit organizations in the State of Washington, dated 03/29/2022, is hereby amended to include the following areas as adversely affected by the disaster.

Primary Counties: Chelan, Clallam, Okanogan.

All other information in the original declaration remains unchanged.

(Catalog of Federal Domestic Assistance Number 59008)

Joshua Barnes,
Acting Associate Administrator for Disaster Assistance.

[FR Doc. 2022-12150 Filed 6-6-22; 8:45 am]

BILLING CODE 8026-09-P